INTERNATIONAL TRADE COMMISSION

[Inv. No. 337-TA-744]

In the Matter of: Certain Mobile Devices, Associated Software, and Components Thereof; Notice of Investigation

AGENCY: U.S. International Trade Commission.

ACTION: Institution of investigation pursuant to 19 U.S.C. 1337.

SUMMARY: Notice is hereby given that a complaint was filed with the U.S. International Trade Commission on October 1, 2010, under section 337 of the Tariff Act of 1930, as amended, 19 U.S.C. 1337, on behalf of Microsoft Corporation of Redmond, Washington. An amended complaint was filed on October 12, 2010. The amended complaint alleges violations of section 337 based upon the importation into the United States, the sale for importation, and the sale within the United States after importation of certain mobile devices, associated software, and components thereof by reason of infringement of certain claims of U.S. Patent No. 5,579,517 (“the '517 patent”); U.S. Patent No. 5,758,352 (“the '352 patent”); U.S. Patent No. 6,621,746 (“the '746 patent”); U.S. Patent No. 6,826,762 (“the '762 patent”); U.S. Patent No. 6,909,910 (“the '910 patent”); U.S. Patent No. 7,644,376 (“the '376 patent”); U.S. Patent No. 5,664,133 (“the '133 patent”); U.S. Patent No. 6,578,054 (“the '054 patent”); and U.S. Patent No. 6,370,566 (“the '566 patent”). The amended complaint further alleges that an industry in the United States exists as required by subsection (a)(2) of section 337.

The complainant requests that the Commission institute an investigation and, after the investigation, issue an exclusion order and a cease and desist order.

ADDRESSES: The amended complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Juan Cockburn, Esq., Office of Unfair Import Investigations, U.S. International Trade Commission, telephone (202) 205-2572.

Authority: The authority for institution of this investigation is contained in section 337 of the Tariff Act of 1930, as amended, and in section 210.10 of the Commission's Rules of Practice and Procedure, 19 CFR 210.10 (2010).

Scope of Investigation: Having considered the amended complaint, the U.S. International Trade Commission, on November 1, 2010, Ordered That—

(1) Pursuant to subsection (b) of section 337 of the Tariff Act of 1930, as amended, an investigation be instituted to determine whether there is a violation of subsection (a)(1)(B) of section 337 in the importation into the United States, the sale for importation, or the sale within the United States after importation of certain mobile devices, associated software, and components thereof that infringe one or more of claims 1-4, 22, 26, 31, and 36 of the ’517 patent; claims 1, 7, 12, and 20 of the ’352 patent; claims 6, 10, 15, 16, 23, and 24 of the ’746 patent; claims 1-9, 15, and 16 of the ’762 patent; claims 1-3, 5-8 and 10 of the ’910 patent; claims 10-13 of the ’376 patent; claims 1, 2, 8, 18, 19, 25, and 35-37 of the ’133 patent; claims 11 and 13-15 of the ’054 patent; and claims 1, 2, 5, 6, and 9 of the ’566 patent, and whether an industry in the United States exists as required by subsection (a)(2) of section 337;

(2) For the purpose of the investigation so instituted, the following are hereby named as parties upon which this notice of investigation shall be served:

(a) The complainant is: Microsoft Corporation, One Microsoft Way, Redmond, Washington 98052.

(b) The respondents are the following entities alleged to be in violation of section 337, and are the parties upon which the amended complaint is to be served:

Motorola, Inc., 1303 East Algonquin Road, Schaumburg, Illinois 60196.

Motorola Mobility, Inc., 600 North US Highway 45, Libertyville, Illinois 60048.

(c) The Commission investigative attorney, party to this investigation, is Juan Cockburn, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of the respondents to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 1, 2010.
Marilyn R. Abbott,
Secretary to the Commission.

[FR Doc. 2010-27924 Filed 11-4-10; 8:45 am]

BILLING CODE 7020-02-P